DEPARTMENT OF COMMERCE

International Trade Administration

[A-570-088]

Certain Steel Racks and Parts Thereof From the People's Republic of China: Final Results of Antidumping Duty Administrative Review; 2022-2023

AGENCY: Enforcement and Compliance, International Trade Administration, Department of Commerce.

SUMMARY: The U.S. Department of Commerce (Commerce) determines that certain exporters under review either sold certain steel racks and parts thereof (steel racks) from the People's Republic of China (China) in the United States at prices below normal value (NV) during the period of review (POR) September 1, 2022, through August 31, 2023, or have not established their eligibility for a separate rate and are part of the China-wide entity.

DATES: Applicable July 10, 2025.

FOR FURTHER INFORMATION CONTACT: Jonathan Hill, AD/CVD Operations, Office IV, Enforcement and Compliance, International Trade Administration, U.S. Department of Commerce, 1401 Constitution Avenue NW, Washington, DC 20230; telephone: (202) 482-3518.

SUPPLEMENTARY INFORMATION:

Background

On October 10, 2024, Commerce published the Preliminary Results in the Federal Register and invited interested parties to comment.¹ On December 9, 2024, Commerce tolled certain deadlines in this administrative proceeding by 90 days.² On May 5, 2025, Commerce extended the deadline to issue the final results of this review until July 3, 2025.³ For details regarding the events that occurred subsequent to publication of the Preliminary Results, see the Issues and Decision Memorandum.⁴ Commerce conducted this administrative review in accordance with section 751 of the Tariff Act of 1930, as amended (the Act).

¹ See Certain Steel Racks and Parts Thereof from the People's Republic of China: Preliminary Results and Partial Rescission of the Antidumping Duty Administrative Review; 2022-2023, 89 FR 822213 (October 10, 2024) (Preliminary Results), and accompanying Preliminary Decision Memorandum (PDM).

² See Memorandum, “Tolling of Deadlines for Antidumping and Countervailing Duty Proceedings,” dated December 9, 2024.

³ See Memorandum, “Extension of Deadline for Final Results of Antidumping Duty Administrative Review,” dated May 5, 2025.

⁴ See Memorandum, “Issues and Decision Memorandum for the Final Results of the Administrative Review of the Antidumping Duty Order on Certain Steel Racks and Parts Thereof from the People's Republic of China; 2022-2023,” dated concurrently with, and hereby adopted by, this notice (Issues and Decision Memorandum).

Scope of the Order ⁵

⁵ See Certain Steel Racks and Parts Thereof from the People's Republic of China: Amended Final Affirmative Antidumping Duty Determination and Antidumping Duty Order; and Countervailing Duty Order, 84 FR 48584 (September 16, 2019) (Order).

The merchandise covered by the Order is steel racks and parts thereof. For a full description of the scope of the Order, see in the Issues and Decision Memorandum.

Analysis of Comments Received

We addressed all the issues raised in the case and rebuttal briefs in the Issues and Decision Memorandum. A list of the issues that parties raised, and to which we responded in the Issues and Decision Memorandum, is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding the Preliminary Results, and for the reasons explained in the Issues and Decision Memorandum, Commerce made certain changes to the preliminary weighted-average dumping margin calculations for Jiangsu Nova Intelligent Logistics Equipment Co., Ltd. (Jiangsu Nova) for the final results of review.⁶

⁶ See Issues and Decision Memorandum.

On June 13 and June 16, 2025, respectively, the U.S. Court of Appeals for the Federal Circuit (Federal Circuit) issued mandates based on the Federal Circuit's opinions in Marmen and Stupp.⁷ In its opinions, the Federal Circuit held that it is unreasonable to use the Cohen's d test when the Cohen's d test is applied to data that do not satisfy certain statistical criteria. Accordingly, in an effort to comply with the Federal Circuit's holdings regarding the Cohen's d test, Commerce has revised the differential pricing analysis used in the Preliminary Results for these final results, as described in the Issues and Decision Memorandum.⁸

⁷ See Marmen Inc. v. United States, 134 F.4th 1334 (Fed. Cir. 2025) (Marmen); Stupp Corp. v. United States, 2025 U.S. App. LEXIS 9616 (Fed. Cir. 2025) (non-precedential) (Stupp).

⁸ Although Commerce's preference is to provide interested parties with an opportunity to comment, given the impending statutory deadline of section 751(a)(2)(B)(iii) of the Act for the final results of this administrative review, there is insufficient time to allow for comments on the revised differential pricing analysis and related calculations for comment in this administrative review. Commerce's use of the average-to-transaction method in these final results remains unchanged from the Preliminary Results of this review. See Preliminary Results PDM at 7. Though parties did not have an opportunity to comment on the use of Commerce's new differential pricing analysis for the final results of this review, the new analysis did not impact the methodology used to calculate the dumping margin in these final results. We address Jiangsu Nova's arguments on Commerce's authority to use a differential pricing analysis in the Issues and Decision Memorandum.

Separate Rates

In the Preliminary Results, Commerce granted Jiangsu Nova separate rate status, but denied separate rate status to Jiangsu Starshine Industry Equipment Co., Ltd. (Starshine) and treated it as part of the China-wide entity.⁹ No parties commented on Commerce's preliminary separate rates decisions. For the final results of review, Commerce has continued to grant Jiangsu Nova separate rate status and continued to deny separate rate status to Starshine and treat it as part of the China-wide entity.

⁹ See Preliminary Results.

China-Wide Entity

As noted in the Preliminary Results, in accordance with Commerce's policy, the China-wide entity is not under review because no party specifically requested, and Commerce did not self-initiate, a review of the China-wide entity.¹⁰ Thus, the China-wide entity's dumping margin, i.e., 144.50 percent,¹¹ is not subject to change.

¹⁰ Id.

¹¹ See Order, 84 FR at 48585.

Final Results of Review

We have determined the following weighted-average dumping margin for the companies listed below for the period September 1, 2022, through August 31, 2023:

Exporter | Weighted-average dumping margin (percent)
Jiangsu Nova Intelligent Logistics Equipment Co., Ltd./Nanjing Jinshidai Storage Equipment Co., Ltd./Hebei Nova Intelligent Logistics Equipment Co., Ltd | 11.18

Disclosure

Commerce intends to disclose the calculations and analysis performed for these final results of review within five days of the date of publication of this notice in the Federal Register, in accordance with 19 CFR 351.224(b).

Assessment Rates

Pursuant to section 751(a)(2)(C) of the Act and 19 CFR 351.212(b), Commerce will determine, and U.S. Customs and Border Protection (CBP) shall assess, antidumping duties on all appropriate entries of subject merchandise covered by the final results of this review. Commerce intends to issue assessment instructions to CBP no earlier than 35 days after the date of publication date of the final results of this review in the Federal Register. If a timely summons is filed at the U.S. Court of International Trade, the assessment instructions will direct CBP not to liquidate relevant entries until the time for parties to file a request for a statutory injunction has expired (i.e., within 90 days of publication).

In accordance with 19 CFR 351.212(b)(1), we calculated importer-specific assessment rates for Jiangsu Nova by dividing the total amount of dumping calculated for all reviewed U.S. sales to the importer by the total entered value of the subject merchandise sold to the importer.¹² Where an importer-specific ad valorem assessment rate is not zero or de minimis, Commerce will instruct CBP to collect the appropriate duties at the time of liquidation. Where an importer-specific ad valorem assessment rate is zero or de minimis, Commerce will instruct CBP to liquidate the appropriate entries without regard to antidumping duties.

¹² We applied the assessment rate calculation method adopted in Antidumping Proceedings: Calculation of the Weighted-Average Dumping Margin and Assessment Rate in Certain Antidumping Proceedings: Final Modification, 77 FR 8101 (February 14, 2012).

Pursuant to a refinement to Commerce's assessment practice, where Jiangsu Nova did not report a sale of merchandise that was entered into the United States during the POR under its company-specific CBP case number, Commerce will instruct CBP to liquidate any entries of such merchandise at the weighted-average dumping margin for the China-wide entity (i.e., 144.50 percent).¹³

¹³ See Order, 84 FR at 48586.

For Starshine, the company ineligible for a separate rate that Commerce considers to be part of the China-wide entity, the assessment rate will be equal to the weighted-average dumping margin for the China-wide entity, i.e., 144.50 percent.¹⁴

¹⁴ Id.

Cash Deposit Requirements

The following cash deposit requirements will be in effect for all shipments of subject merchandise entered, or withdrawn from warehouse, for consumption on, or after, the date of publication of this notice in the Federal Register, as provided for by section 751(a)(2)(C) of the Act: (1) the cash deposit rate for Jiangsu Nova will be equal to the weighted-average dumping margin listed for the company in the table above; (2) for a previously investigated or reviewed exporter of subject merchandise not under review that has a separate rate, the cash deposit rate will continue to be the exporter's existing cash deposit rate; (3) for all China exporters of subject merchandise that do not have a separate rate, the cash deposit rate will be equal to the weighted-average dumping margin assigned to the China-wide entity, which is 144.50 percent; and (4) for a non-China exporter of subject merchandise that does not have a separate rate, the cash deposit rate will be equal to the weighted-average dumping margin applicable to the China exporter that supplied that non-China exporter. These cash deposit requirements, when imposed, shall remain in effect until further notice.

Notification to Importers Regarding the Reimbursement of Duties

This notice also serves as a final reminder to importers of their responsibility under 19 CFR 351.402(f) to file a certificate regarding the reimbursement of antidumping duties prior to liquidation of the relevant entries during the POR. Failure to comply with this requirement could result in Commerce's presumption that reimbursement of antidumping duties occurred and the subsequent assessment of double antidumping duties and/or an increase in the amount of antidumping duties by the amount of the countervailing duties.

Administrative Protective Order (APO)

This notice also serves as a reminder to parties subject to an APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

We are issuing these final results of administrative review and publishing this notice in accordance with sections 751(a)(1) and 777(i) of the Act, and 19 CFR 351.213(h)(2) and 351.221(b)(5).

Dated: July 3, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Differential Pricing Analysis

VI. Discussion of the Issues

Comment 1: Use of a Differential Pricing Analysis in an Administrative Review

Comment 2: Verification of Factual Information

Comment 3: Calculation of Surrogate Financial Ratios

Comment 4: Inflation Index

VII. Recommendation

[FR Doc. 2025-12784 Filed 7-9-25; 8:45 am]

BILLING CODE 3510-DS-P